DEPARTMENT OF COMMERCE

National Institute of Standards and Technology

[Docket Number: 110524296-2097-03]

Recommendations for Establishing an Identity Ecosystem Governance Structure for the National Strategy for Trusted Identities in Cyberspace

AGENCY: National Institute of Standards and Technology, Department of Commerce.

ACTION: Notice.

SUMMARY: The National Institute of Standards and Technology announces the release of a paper entitled Recommendations for Establishing an Identity Ecosystem Governance Structure on Tuesday, February 7, 2012. This paper supports the implementation of the National Strategy for Trusted Identities in Cyberspace and responds to comments received in response to the related Notice of Inquiry published in the Federal Register on June 14, 2011.

DATES: The Recommendations for Establishing an Identity Ecosystem Governance Structure paper was made available on February 7, 2012.

ADDRESSES: The Recommendations for Establishing an Identity Ecosystem Governance Structure paper is available at www.nist.gov/nstic/2012-nstic-governance-recs.pdf. The NIST Web site for the NSTIC and its implementation is www.nstic.gov.

FOR FURTHER INFORMATION CONTACT: For questions about this request contact: Annie Sokol, Information Technology Laboratory, National Institute of Standards and Technology, U.S. Department of Commerce, 100 Bureau Drive, Mailstop 8930, Gaithersburg, MD 20899, telephone (301) 975-2006; email nsticgovernance@nist.gov. Please direct media inquiries to the Director of NIST's Office of Public Affairs, gail.porter@nist.gov.

SUPPLEMENTARY INFORMATION: The paper entitled Recommendations for Establishing an Identity Ecosystem Governance Structure was written in support of the implementation of the National Strategy for Trusted Identities in Cyberspace (NSTIC). On June 14, 2011, NIST published a Notice of Inquiry in the Federal Register (76 FR 34650), requesting input from the public regarding Models for a Governance Structure for the National Strategy for Trusted Identities in Cyberspace. On August 16, 2011, NIST published a Notice in the Federal Register (76 FR 50719), extending the deadline for comments. The paper summarizes the comments received in response to the NOI and provides recommendations and intended government actions to serve as a catalyst for establishing such a governance structure. The recommendations result from comments and suggestions received from the NOI respondents as well as best practices and lessons learned from similarly scoped governance efforts. To accelerate the launch of the Steering Group, the paper integrates the recommendations into a proposed Steering Group charter.

Dated: February 13, 2012.
Patrick Gallagher,
Under Secretary of Commerce for Standards and Technology.

[FR Doc. 2012-3835 Filed 2-16-12; 8:45 am]

BILLING CODE 3510-13-P